DEPARTMENT OF TRANSPORTATION

Federal Aviation Administration

14 CFR Part 71

[Docket No. FAA-2005-22509; Airspace Docket No. 03-AWA-2]

RIN 2120-AA66

Proposed Modification of the St. Louis Class B Airspace Area; MO

AGENCY: Federal Aviation Administration (FAA), DOT.

ACTION: Notice of proposed rulemaking.

SUMMARY: This action proposes to modify the St. Louis, MO, (STL) Class B airspace area. Specifically, this action proposes airspace changes to contain large, turbine-powered aircraft operations to and from the new Runway 11/29 at the Lambert-St. Louis International Airport (KSTL), St. Louis, MO. The FAA is proposing this action to enhance safety and improve the management of aircraft operations in the KSTL terminal area. Further, this effort supports the FAA's national airspace redesign goal of optimizing terminal and en route airspace areas to reduce aircraft delays and improve system capacity.

DATES: Comments must be received on or before January 6, 2006.

ADDRESSES: Send comments on this proposal to the Docket Management System, U.S. Department of Transportation, Room Plaza 401, 400 Seventh Street, SW., Washington, DC 20590-0001. You must identify FAA Docket No. FAA-2005-22509 and Airspace Docket No. 03-AWA-2, at the beginning of your comments. You may also submit comments through the Internet at http://dms.dot.gov.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-22509 and Airspace Docket No. 03-AWA-2) and be submitted in triplicate to the Docket Management System (see ADDRESSES section for address and phone number). You may also submit comments through the Internet at http://dms.dot.gov.

Commenters wishing the FAA to acknowledge receipt of their comments on this action must submit with those comments and self-addressed, stamped postcard on which the following statement is made: “Comments to FAA Docket No. FAA-2005-22509 and Airspace Docket No. 03-AWA-2.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 2300 East Devon Avenue, Des Plaines, IL 60018.

Persons interested in being placed on the mailing list for future NPRM's should contact the FAA's Office of Rulemaking, (202) 267-9677, for a copy of Advisory Circular No. 11-2A, Notice of Proposed Rulemaking Distribution System, which describes the application procedure.

Background

In August 1979, the FAA issued a final rule establishing the St. Louis, MO, Terminal Control Area (TCA). This area was later re-classified as a Class B airspace area as a result of the Airspace Reclassification Final Rule (56 FR 65638); however, this final rule did not alter the dimensions of the original TCA.

As part of the FAA's Operational Evolution Plan, a new runway is under construction at KSTL. The new runway (Runway 11/29) is designed to provide a 51% increase in airport capacity and is scheduled to be commissioned in April 2006. Aircraft conducting instrument operations to this new runway will frequently need to intercept instrument approaches outside the St. Louis Class B airspace area if the current Class B airspace area is not expanded. The proposed Class B airspace modification will address this matter.

Public Input

On February 26, 2004, informal public workshops were held at the St. Charles Municipal Airport, St. Charles, MO; the Creve Coeur Airport, Maryland Heights, MO; and the St. Louis-Downtown Airport, Cahokia, IL. These public workshops and meetings allowed interested parties an opportunity to present their views and offer suggestions regarding planned modifications to the STL Class B airspace area. All comments received during the workshops were considered and were then reviewed by the ad hoc committee.

Ad hoc Committee

The ad hoc committee, sponsored by the Missouri Department of Transportation (MDOT) Office of Aviation, was comprised of representatives from the MDOT, Aircraft Owners and Pilots association (AOPA), United States Pilots Association, Missouri Pilots Association, Greater St. Louis Business Aviation Association, Emerson Flight Operations, St. Charles County Airport, St. Charles Municipal Airport, Washington Airport, Scott Air Force Base, Mid-America Airport, St. Louis Downtown Airport, Creve Coeur Airport, St. Louis Metro-East Airport-Shafer Field, and the FAA's Gateway TRACON. The ad hoc committee met on October 2, 2003; January 22, 2004; and September 23, 2004. During these meetings, the FAA presented preliminary plans to modify the STL Class B airspace area and participants presented comments and recommendations regarding the planned modifications. All comments and recommendations received from the ad hoc committee were considered by the FAA in developing the modifications proposed in this NPRM.

The following is a summary of the final recommendations received from the ad hoc committee:

1. Limit the floor of the Class B airspace area over the Creve Coeur Airport to 1,700 feet mean sea level (MSL) and modify Class B airspace area boundaries to include geographical references where possible.

2. Expand Area A to the north/northwest of KSTL to contain large, turbine-powered aircraft departing KSTL. This expansion will not require moving the existing VFR flyway located to the north of the expansion.

3. Expand Area A to the west of KSTL and lower the vertical limits of Area B to the west of KSTL to contain large, turbine-powered aircraft conducting approaches to Runway 11 and departing Runway 29. This will require lowering the altitude of VFR flyways to the west of KSTL from below 2,000 feet MSL to below 1,700 feet MSL.

4. Lower a portion of Area D to the south of KSTL to contain large, turbine-powered aircraft that turn south after departing Runway 29.

5. Lower the floor of Area E from 3,500 feet MSL to 3,000 feet MSL to contain large, turbine-powered aircraft on a base leg to Runway 30R and conducting approaches to Runway 30L and Runway 30R at KSTL.

6. Change the boundary of the arrival extensions in the vicinity of the St. Louis Metro East/Schafer Airport.

7. Include an area in the vicinity of Foristell, Missouri, in the Class B airspace area.

All of the above ad hoc committee's recommendations were adopted.

Informal Airspace Meetings

To provide an additional opportunity for the public to express their opinion on the planned modifications, the FAA held three informal airspace meetings. The first two meetings were held on October 19, 2005 in Chesterfield, MO and the third meeting was held in Collinsville, IL, on October 20, 2005. As a result of these meetings, the FAA received seven written comments. Three of the written comments were supportive of planned modifications to the STL Class B airspace area; four of the written comments expressed concerns with regard to the planned modifications.

Of the four commenters opposed to the planned modifications, three commenters raised concerns about lowering the floor of Area A from 2,000 feet to 1,700 feet MSL. They stated that this change will adversely impact aircraft operations at the St. Charles Municipal Airport (3SQ). This matter was discussed at the informal airspace meetings and had been previously discussed by the ad hoc committee at the public workshops noted above. Because 3SQ is located 7.5 nautical miles (NM) from the approach end of Runway 11 and approximately 1.5 NM north of the extended final approach course, the FAA has determined that lowering the floor of Area A to 1,700 feet MSL is necessary to contain large, turbine-powered aircraft conducting approach procedures to the new Runway 11 within the STL Class B airspace area. Additionally, it should be noted that large, turbine-powered aircraft will not be operating at the base altitude of the St. Louis Class B airspace area. Also, because the traffic pattern altitude at 3SQ is 1,100 feet MSL, aircraft transiting the area may continue their practice of flying over the 3SQ traffic pattern at 1,600 feet MSL, while remaining clear of the St. Louis Class B airspace area.

Two commenters also expressed concern about the expansion of the Class B Surface area to the west-northwest of KSTL and the loss of the Missouri River as a geographical boundary. The FAA has determined that the modifications to the west-northwest of KSTL are necessary to contain large, turbine-powered aircraft arriving Runway 11 and departing Runway 29 within the St. Louis Class B Airspace. While the Missouri River will no longer define a boundary of the St. Louis Class B airspace area, the FAA believes that pilots may utilize Highway 94 or Route H as a geographical reference to identify the location of that boundary as well as using the Cardinal VOR/DME.

One of commenters, the City Administrator for the City of St. Charles also expressed concerns about increased noise and potential structural damage to the city's historical district. These environmental concerns were addressed in the Final Environmental Impact Statement for the St. Louis-Lambert International Airport Expansion Plan and are categorically excluded from Class B airspace actions by FAA Order 1050.1E, Policies and Procedures for Considering Environmental Impacts.

In addition to the written comments, one news helicopter pilot verbally expressed concerns over access to areas within the proposed surface area. FAA representatives attending the meetings expressed a willingness to work with local helicopter operators to mitigate this impact.

The chairman of the ad hoc committee was briefed on comments received as a result of the informal airspace meetings. He stated that comments received would not require any further action on behalf of the ad hoc committee.

The Proposal

The FAA is proposing an amendment to Title 14 Code of Federal Regulations (14 CFR) part 71 to modify the STL Class B airspace area. Specifically, this action (depicted on the attached chart) proposes to expand the Area A, Area B, Area C, and Area D to improve the containment of large, turbine-powered aircraft operating within the STL Class B airspace area.

The following are the proposed revisions for each area of the STL Class B airspace area:

Area A. Expand the lateral limits of Area A to the northwest and southwest of KSTL.

Area B. Expand the lateral limits of Area B to the west-northwest of KSTL.

Area C. Modify the lateral limits of Area C by eliminating a portion to the west-northwest of KSTL that will be included in new Area B.

Area D. Modify Area D by reducing the lateral limits to that portion of the current Area D that lies within the 10-NM arc of Cardinal (Very High Frequency Omni-directional Range (VOR)/Distance Measuring Equipment (DME) to the south of KSTL and lower the floor from 3,000 feet MSL to 2,500 feet MSL.

Area E. Expand Area E to include the area between the 10-NM and 15-NM DME arcs of the Cardinal VOR/DME and lower the floor from 3,500 feet MSL to 3,000 feet MSL.

Area F. Reduce the lateral limits of Area F to two areas between the 15-NM and 20-NM DME arcs of the Cardinal VOR/DME and lower the floor from 4,500 feet MSL to 3,500 feet MSL.

Area G. Expand those portions of airspace that were eliminated from the current Area F and re-designate that airspace as Area G. The altitude would remain from 4,500 feet MSL to and including 8,000 feet MSL.

Area H. Re-designate a portion of the current Area G as a new Area H. The altitude would remain from 5,000 feet MSL to and including 8,000 feet MSL.

Area I. Designate a new Area I between the 20-NM and 30-NM arcs of the Cardinal VOR/DME to the west of KSTL.

These modifications would improve the management of aircraft operations in the STL terminal area and enhance safety by expanding the dimensions of the STL Class B airspace area to protect large, turbine-powered aircraft arriving and departing KSTL. Additionally, this proposed action supports various efforts to enhance the efficiency and capacity of the National Airspace System.

The coordinates for this airspace docket are based on North American Datum 83. Class B airspace areas are published in paragraph 3000 of FAA Order 7400.9N, Airspace Designations and Reporting Points, dated September 1, 2005, and effective September 15, 2005, which is incorporated by reference in 14 CFR section 71.1. The Class B airspace area listed in this document would be published subsequently in the order.

Regulatory Evaluation Summary

Changes to Federal regulations must undergo several economic analyses. First, Executive Order 12866 directs that each Federal agency shall propose or adopt a regulation only upon a reasoned determination that the benefits of the intended regulation justify its costs. Second, the Regulatory Flexibility Act of 1980 requires agencies to analyze the economic impact of regulatory changes on small entities. Third, the Trade Agreements Act (19 U.S.C. 2531-2533) prohibits agencies from setting standards that create unnecessary obstacles to the foreign commerce of the United States. In developing U.S. standards, this Trade Act requires agencies to consider international standards and, where appropriate, to be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation).

In conducting these analyses, FAA has determined this rule: (1) Has benefits that justify its costs, is not a “significant regulatory action” as defined in section 3(f) of Executive Order 12866, and is not “significant” as defined in Department of Transportation's Regulatory Policies and Procedures; (2) will not have a significant economic impact on a substantial number of small entities; (3) will not reduce barriers to international trade; and does not impose an unfunded mandate on State, local, or tribal governments, or on the private sector. These analyses, available in the docket, are summarized below.

This NPRM would modify the St. Louis, MO, Class B airspace area. The proposed rule would expand the eastern boundary of the airspace area, and alter several of the existing areas within St. Louis, MO, Class B airspace area.

The NPRM would generate benefits for system users and supports the national airspace redesign goal of the FAA by maximizing the efficiency of terminal and en route airspace areas to reduce aircraft delays, improve system capacity, and enhance safety. The cost of circumnavigation is considered to be small. Thus, the FAA has determined this proposed rule would be cost-beneficial.

Total Costs and Benefits of This Rulemaking

The NPRM would generate benefits for air carriers and the FAA in the form of enhanced operational efficiency and simplified navigation of the STL terminal area. However, general aviation (GA) operators may experience a marginal increase in circumnavigation costs due to the proposed expansion of the airspace area.

The proposed rule would not impose any additional administrative costs on the FAA for either personnel or equipment.

Who Is Potentially Affected by This Rulemaking?

This proposed rulemaking affects anyone who would operate in STL Class B airspace area, and specifically those aircraft with large, turbine-powered engines.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principle, the Act requires agencies to solicit and consider flexible regulatory proposals and to explain the rationale for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 Act provides that the head of the agency may so certify and an RFA is not required. The certification must include a statement providing the factual basis for this determination, and the reasoning should be clear.

This proposed rule may impose some circumnavigation costs on individuals operating in the STL terminal area, but the proposed rule would not impose any costs on small business entities. Individual operators of GA aircraft are not considered as small business entities. As such, they are not included when performing a regulatory flexibility analysis. Flight schools are considered small business entities. However, the FAA assumes that they provide instruction in aircraft equipped to navigate in Class B airspace given they currently provide instruction in the STL terminal area. Therefore, these small entities should not incur any additional costs as a result of the proposed rule. Accordingly, pursuant to the Regulatory Flexibility Act, 5 U.S.C. 605(b), the Federal Aviation Administration certifies that this proposed rule would not have a significant economic impact on a substantial number of small entities. The FAA solicits comments from affected entities with respect to this finding and determination and requests that all comments be accompanied by clear documentation.

International Trade Impact Assessment

The Trade Agreement Act of 1979 prohibits Federal agencies from engaging in any standards or related activities that create unnecessary obstacles to the foreign commerce of the United States. Legitimate domestic objectives, such as safety, are not considered unnecessary obstacles. The statute also requires consideration of international standards and where appropriate, that they be the basis for U.S. standards.

In accordance with the above statute, the FAA has assessed the potential effect of this proposed rule and has determined that it would have only a domestic impact and therefore create no obstacles to the foreign commerce of the United States.

Unfunded Mandates Assessment

The Unfunded Mandate Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector. The FAA currently uses an inflation-adjusted value of $120.7 million in lieu of $100 million. This proposed rule does not contain such a mandate. The requirements of Title II do not apply.

Paperwork Reduction Act

In accordance with the Paperwork Reduction Act of 1980 (Pub. L. 96-511), there are no requirements for information collection associated with this action.

Conclusion

In view of the small compliance cost to circumnavigate the controlled airspace by operators of non-compliant aircraft of the proposed rule and enhancements to aviation safety and operational efficiency, the FAA has determined the proposed rule would be cost-beneficial.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND CLASS E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9N, Airspace Designations and Reporting Points, dated September 1, 2005, and effective September 15, 2005, is amended as follows:

Paragraph 3000—Class B Airspace.

* * * * *

ACE MO B St. Louis, MO [Revised]

Lambert-St. Louis International Airport (Primary Airport)

(Lat. 38°44′52″ N., long. 90°21′36″ W.)

Creve Coeur Airport

(Lat. 38°43′36″ N., long. 90°30′30″ W.)

St. Charles Municipal Airport

(Lat. 38°50′55″ N., long. 90°30′00″ W.)

Cardinal VOR/DME (CSX)

(Lat. 38°45′10″ N., long. 90°21′39″ W.)

Foristell VORTAC

(Lat. 38°41′40″ N., long. 90°58′17″ W.)

ILS Runway 30L Localizer

(Lat. 38°45′17″ N., long. 90°22′52″ W.)

Boundaries

Area A. That airspace extending from the surface to and including 8,000 feet MSL within a 6-mile DME radius of the Cardinal VOR/DME excluding that airspace within the 1.5NM radius of the Creve Coeur Airport.

Area B. That airspace extending upward from 1,700 feet MSL to and including 8,000 feet MSL within a 10-mile DME radius of the Cardinal VOR/DME beginning at the intersection of the 6-mile DME arc and Page Avenue, then westward along Page Avenue to Missouri Route 94, then westward along Missouri Route 94 to the intersection of Missouri Route 94 and the 10-mile DME arc, then clockwise along the 10-mile DME arc to the intersection of the 10-mile DME arc and the power lines located 2NM north of the St. Charles Municipal Airport, then southeast along the power lines to the intersection of the power lines and the 6-mile DME arc, then counterclockwise along the 6-mile DME arc to the intersection of the 6-mile DME arc and the 1.5NM radius arc of the Creve Coeur Airport, then clockwise along the 1.5NM arc of the Creve Coeur Airport to the intersection of the 1.5NM arc of the Creve Coeur Airport and the 6-mile DME arc, then counterclockwise along the 6-mile DME arc to the point of beginning.

Area C. That airspace extending upward from 2,000 feet MSL to and including 8,000 feet MSL within a 10-mile DME radius of the Cardinal VOR/DME, excluding Areas A, B, and D.

Area D. That airspace extending upward from 2,500 feet MSL to and including 8,000 feet MSL within a 10-mile DME radius of the Cardinal VOR/DME, bounded on the south by the 10-mile DME arc and on the north by Interstate 64.

Area E. That airspace extending upward from 3,000 feet MSL to and including 8,000 feet MSL within a 15-mile DME radius of the Cardinal VOR/DME, excluding Areas A, B, C, and D.

Area F. That airspace extending upward from 3,500 feet MSL to and including 8,000 feet MSL within a 20-mile DME radius of the Cardinal VOR/DME, northwest of the Cardinal VOR/DME, beginning at the intersection of Interstate 64 and the 20-mile DME radius, clockwise along the 20-mile DME arc to the intersection of the 20-mile DME arc and the island in the Illinois River (lat. 39°02′23″ N., long. 90°34′40″ W.), then along a line direct to the 15-mile DME arc centered on Grafton, Illinois (lat. 38°59′12″ N., long. 90°28′20″ W.), then counterclockwise along the 15-mile DME arc to the intersection of the 15-mile DME arc and Interstate 64, then west along Interstate 64 to the point of beginning; and that airspace, southeast of the Cardinal VOR/DME, beginning at the intersection of the 20-mile DME arc of the Cardinal VOR/DME and Interstate 270, then clockwise along the 20-mile DME arc to the intersection of the 20-mile DME arc and Illinois Route 3, then northwest along Illinois Route 3 to the intersection of Illinois Route 3 and Interstate 255, then northwest along Interstate 255 to the 15-mile DME arc, then counterclockwise along the 15-mile DME arc to the intersection of the 15-mile DME arc and Interstate 270, then east along Interstate 270 to the point of beginning.

Area G. That airspace extending upward from 4,500 feet MSL to and including 8,000 feet MSL within a 30-mile DME radius of the Cardinal VOR/DME, southeast of the Cardinal VOR/DME, beginning at the intersection of the 30-mile DME arc and Victor 4 Low Altitude Airway, then northwest along Victor 4 to the intersection of Victor 4 and the 20-mile DME arc, then clockwise along the 20-mile DME arc to the intersection of the 20-mile DME arc and Illinois Route 3 (Columbia, Illinois), then southeast along a line parallel to the runway 30L localizer course to intersect the 30-mile DME arc, then counterclockwise along the 30-mile DME arc to the point of beginning; and that airspace, northwest of the Cardinal VOR/DME, beginning at the Cardinal VOR/DME 320° radial at 30 DME, then counterclockwise along the 30-mile DME arc to the Cardinal VOR/DME 286° radial at 30 DME, then along a line southeast direct to the Cardinal VOR/DME 277° radial at 20 DME, then clockwise along the 20-mile DME arc to the intersection of the 20-mile DME arc and the island in the middle of the Illinois River (lat. 39°02′23″ N., long. 90°34′40″ W.), then along a line northwest direct to the point of beginning.

Area H. That airspace extending upward from 5,000 feet MSL to and including 8,000 feet MSL within a 20-mile DME radius of the Cardinal VOR/DME, excluding Areas A, B, C, D, E, and F.

Area I. That airspace extending upward from 5,000 feet MSL to and including 8,000 feet MSL within a 30-mile DME radius of the Cardinal VOR/DME, beginning at the Cardinal VOR/DME 286° radial at 30 DME, then counterclockwise along the 30-mile DME arc to the intersection of the 30-mile DME arc and the power line 2.5NM northwest of the Foristell VORTAC, then east along the power line to the intersection of the power line and the 20-mile DME arc, then clockwise along the 20-mile DME arc to the Cardinal VOR/DME 277° radial at 20 DME, then along a line northwest direct to the point of beginning.

* * * * *

Issued in Washington, DC, on November 16, 2005.
Edith V. Parish,
Manager, Airspace and Rules.

BILLING CODE 4910-13-P

[FR Doc. 05-23096 Filed 11-21-05; 8:45 am]

BILLING CODE 4910-13-C